DEPARTMENT OF THE INTERIOR

Bureau of Land Management

[UTU 50216]

Expiration of Bureau of Reclamation Withdrawal and Opening of Lands; Utah

AGENCY: Bureau of Land Management, Interior.

ACTION: Notice.

SUMMARY: Public Land Order 6550, which withdrew 159.91 acres of National Forest System lands from mining for use by the Bureau of Reclamation in constructing recreation facilities associated with the Upalco Unit of the Central Utah Project, has expired. This order opens the lands to location and entry under the mining laws.

EFFECTIVE DATE: March 28, 2005.

FOR FURTHER INFORMATION CONTACT: Rhonda Flynn, BLM Utah State Office, 324 S. State Street, Salt Lake City, Utah, 84111-2303, 801-539-4132.

SUPPLEMENTARY INFORMATION: 1. Public Land Order No. 6550, published in the Federal Register July 23, 1984 (49 FR 29599), which withdrew the following described National Forest System lands for use by the Bureau of Reclamation in constructing recreation facilities associated with the Upalco Unit of the Central Utah Project, expired by operation of law on July 22, 2004.

Ashley National Forest

Uintah Special Meridian

T. 2 N., R. 4 W.,

Sec. 4, lots 3 and 4, NW¼SE¼NW¼, and NE¼SW¼NW¼.

T. 3 N., R. 5 W.,

Sec. 34, SW¼SW¼ and S½NW¼SW¼.

The area described contains 159.91 acres in Duchesne County.

2. At 10 a.m. on March 28, 2005, the lands described in Paragraph 1 above will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

(Authority: 43 CFR 2091.6)

Dated: December 16, 2004.
Kent Hoffman,
Deputy State Director, Lands and Minerals.

[FR Doc. 05-3516 Filed 2-23-05; 8:45 am]

BILLING CODE 4310-MN-P